FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011284-069.

Title: Ocean Carrier Equipment Management Association Agreement.

Parties: APL Co. Pte. Ltd.; American President Lines, Ltd.; A.P. Moller-Maersk A/S; CMA CGM, S.A.; Atlantic Container Line; China Shipping Container Lines Co., Ltd; China Shipping Container Lines (Hong Kong) Co., Ltd.; Companhia Libra de Navegacao; Compania Libra de Navegacion Uruguay S.A.; Compania Sud Americana de Vapores, S.A.; COSCO Container Lines Company Limited; Crowley Maritime Corporation; Evergreen Line Joint Service Agreement; Hamburg-Süd; Hapag-Lloyd AG; Hapag-Lloyd USA LLC; Hanjin Shipping Co., Ltd.; Hyundai Merchant Marine Co. Ltd.; Kawasaki Kisen Kaisha, Ltd.; Mediterranean Shipping Company, S.A.; Mitsui O.S.K. Lines Ltd.; Nippon Yusen Kaisha Line; Norasia Container Lines Limited; Orient Overseas Container Line Limited; Yang Ming Marine Transport Corp.; and Zim Integrated Shipping Services, Ltd.

Filing Party: Jeffrey F. Lawrence, Esq. and Donald J. Kassilke, Esq.; Cozen O'Connor; 1627 I Street, NW.; Suite 1100; Washington, DC 20006.

Synopsis: The amendment would clarify the authority of members to discuss and agree on matters relating to how chassis are made available to the market place.

Agreement No.: 012072-001.

Title: NYK/Yang Ming Americas North-South Service Slot Charter Agreement.

Parties: Nippon Yusen Kaisha; and Yan Ming (America) Corp.

Filing Party: Patricia M. O'Neill, Esq.; Corporate Counsel; NYK Line (North America) Inc.; 300 Lighting Way, 5th Floor; Secaucus, NJ 07094.

Synopsis: The amendment deletes Hanjin Shipping as a party to the Agreement.

Agreement No.: 012105-001.

Title: SCM Lines Transportes/CCNI Agreement.

Parties: Compania Chilena de Navegacion Interoceanica S.A. and SCM Lines Transportes Maritimos Sociedade Unipessoal, LDA.

Filing Party: John P. Vayda, Esq.; Nourse & Bowles, LLP; One Exchange Plaza; 55 Broadway; New York, NY 10006-3030.

Synopsis: The amendment expands the geographic scope of the agreement to include the U.S. East Coast, Mexico, Colombia, Venezuela, Jamaica, and the Dominican Republic. The parties have requested expedited review.

By Order of the Federal Maritime Commission.
Dated: April 8, 2011.
Karen V. Gregory,
Secretary.

[FR Doc. 2011-9003 Filed 4-12-11; 8:45 am]

BILLING CODE 6730-01-P